DEPARTMENT OF HEALTH AND HUMAN SERVICES

National Institutes of Health

National Cancer Institute; Amended Notice of Meeting

Notice is hereby given of a change in the meeting of the National Cancer Institute Director's Consumer Liaison Group, October 17, 2000, 8 a.m. to October 18, 2000, 12:30 p.m., National Cancer Institute, 6116 Executive Boulevard, Suite 300 C, Rockville, MD 20852 which was published in the Federal Register on October 5, 2000, 65FR59452.

The meeting will be held at the Natcher Building (Building 45), Conference Room E1/E2, 45 Center Drive, Bethesda, MD 20892. The meeting is open to the public.

Dated: October 11, 2000.
LaVerne Y. Stringfield,
Director, Office of Federal Advisory Committee Policy.

[FR Doc. 00-26862 Filed 10-18-00; 8:45 am]

BILLING CODE 4140-01-M